DEPARTMENT OF TRANSPORTATION

Office of the Secretary

[Docket OST-2004-18638]

Application of Chautauqua Airlines, Inc. for Certificate Authority

AGENCY: Department of Transportation.

ACTION: Notice of Order to Show Cause (Order 2004-9-9).

SUMMARY: The Department of Transportation is directing all interested persons to show cause why it should not issue an order finding Chautauqua Airlines, Inc., fit, willing, and able, and awarding it a certificate of public convenience and necessity to engage in interstate scheduled air transportation of persons, property and mail.

DATES: Persons wishing to file objections should do so no later than September 15, 2004.

ADDRESSES: Objections and answers to objections should be filed in Docket OST-2004-18639 and addressed to Docket Operations, (M-30, Room PL-401), U.S. Department of Transportation, 400 Seventh Street, SW., Washington, DC 20590, and should be served upon the parties listed in Attachment A to the order.

FOR FURTHER INFORMATION CONTACT: Vanessa R. Wilkins, Air Carrier Fitness Division (X-56, Room 6401), U.S. Department of Transportation, 400 Seventh Street, SW., Washington, DC 20590, (202) 366-9721.

Dated: September 8, 2004.
Patricia L. Thomas,
Chief, Air Carrier Fitness Division.

[FR Doc. 04-20716 Filed 9-14-04; 8:45 am]

BILLING CODE 4910-62-P